INTERNATIONAL TRADE COMMISSION

[Investigation Nos. 701-TA-473 and 731-TA-1173 (Preliminary)]

Certain Sodium and Potassium Phosphate Salts From China

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry producing monopotassium phosphate (“MKP”), provided for in subheading 2835.24.00 of the Harmonized Tariff Schedule in the United States, is materially injured or threatened with material injury by reason of imports from China, that are alleged to be subsidized by the Government of China and sold in the United States at less than fair value (LTFV).2 3 In addition, the Commission determines that there is a reasonable indication that industries producing dipotassium phosphate (“DKP”) and tetrapotassium pyrophosphate (“TKPP”), provided for in subheadings 2835.24.00 and 2835.39.10 respectively, of the Harmonized Tariff Schedule of the United States, are threatened with material injury by reason of imports from China, that are alleged to be subsidized by the Government of China and sold in the United States at less than fair value (LTFV).⁴ Finally, the Commission determines that there is no reasonable indication that an industry producing sodium tripolyphosphate (“STPP”), provided for in subheading 2835.31.00 of the Harmonized Tariff Schedule of the United States, is materially injured or threatened with material injury by reason of imports from China, that are alleged to be subsidized by the Government of China and sold in the United States at less than fair value (LTFV).

¹ The record is defined in sec. 207.2(f) of the Commission's Rules of Practice and Procedure (19 CFR 207.2(f)).

² Commissioners Charlotte R. Lane, Irving A. Williamson, and Dean A. Pinkert determine that there is a reasonable indication that the domestic industry is materially injured by reason of subject imports.

³ Chairman Shara L. Aranoff, Vice Chairman Daniel R. Pearson, and Commissioner Deanna Tanner Okun determine that there is a reasonable indication that the domestic industry is threatened with material injury by reason of subject imports.

⁴ Commissioner Charlotte R. Lane determines that there is a reasonable indication that an industry producing TKPP is materially injured by reason of subject imports.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 24, 2009, a petition was filed with the Commission and Commerce by ICL Performance Products LP, St. Louis, MO and Prayon, Inc., Augusta, GA alleging that an industry in the United States is materially injured or threatened with material injury by reason of LTFV and subsidized imports of certain sodium and potassium phosphate salts from China. Accordingly, effective September 24, 2009, the Commission instituted countervailing duty investigation No. 701-TA-473 and antidumping duty investigation No. 731-TA-1173 (Preliminary).

Notice of the institution of the Commission's investigations and of a public conference to be held in connection therewith was given by posting copies of the notice in the Office of the Secretary, U.S. International Trade Commission, Washington, DC and by publishing the notice in the Federal Register of October 1, 2009 (74 FR 50817). The conference was held in Washington, DC, on October 15, 2009, and all persons who requested the opportunity were permitted to appear in person or by counsel.

The Commission transmitted its determinations in these investigations to the Secretary of Commerce on November 9, 2009. The views of the Commission are contained in USITC Publication 4110 (November 2009), entitled Certain Sodium and Potassium Phosphate Salts From China (Preliminary).

By order of the Commission.
Issued: November 17, 2009.
Marilyn R. Abbott,
Secretary to the Commission.

[FR Doc. E9-28020 Filed 11-20-09; 8:45 am]

BILLING CODE 7020-02-P